DEPARTMENT OF COMMERCE

International Trade Administration

South Dakota School of Mines and Technology et al.,Notice of Decision on Applicationfor Duty-Free Entry of Scientific Instruments

This is a decision pursuant to Section 6(c) of the Educational, Scientific, and Cultural Materials Importation Act of 1966 (Pub. L. 89-651, as amended by Pub. L. 106-36; 80 Stat. 897; 15 CFR part 301). On June 16, 2025, and on July 1, 2025, the Department of Commerce published a notice in the Federal Register requesting public comment on whether instruments of equivalent scientific value, for the purposes for which the instruments identified in the docket(s) below are intended to be used, are being manufactured in the United States. See Application(s) for Duty-Free Entry of Scientific Instruments, 90 FR 25222, June 16, 2025 and Application(s) for Duty-Free Entry of Scientific Instruments, 90 FR 28724, July 1, 2025. We received no public comments.

Comments: None received. Decision: Approved. We know of no instrument of equivalent scientific value to the foreign instrument described below, for such purposes as this is intended to be used, that was being manufactured in the United States at the time of order.

Docket Number: 25-013. Applicant: South Dakota School of Mines and Technology, 501 E Saint Joseph St., Rapid City, SD 57701. Instrument: 2D material transfer stage with an optical microscope. Manufacturer: High Hope Zhongding Corporation, China. Intended Use: The instrument will be used to control exciton-polariton interactions in 2D material heterostructures for applications in optoelectronic, electronic devices such as photodetectors, light-emitting devices.

Docket Number: 25-014. Applicant: William Marsh Rice University, P.O. Box 1892, MS094, Houston, TX 77251-1892. Instrument: Erbium Vacuum System. Manufacturer: Limit Vacuum Technology (Beijing) Co., Ltd., China. Intended Use: The instrument will be used to develop quantum simulation technologies to investigate fundamental quantum mechanical properties of quantum matter and potentially develop new novel quantum materials.

Docket Number: 25-016. Applicant: University of Minnesota, 115 Union St. SE, PAN 241, Minneapolis, MN 55455. Instrument: High Temperature Laser Crystal Growth Furnace. Manufacturer: Scientific Instruments GmbH, Germany. Intended Use: The instrument is intended to synthesize single crystals of transition-metal-based oxide to discover new high high-temperature superconducting materials.

Docket Number: 25-017. Applicant: California Institute of Technology, 1200 E California Blvd., M/C 18-34, Pasadena, CA 91125. Instrument: Nd: Yag Laser System. Manufacturer: Laser Zentrum Hannover, Germany. Intended Use: The instrument is intended to detect gravitational waves.

Docket Number: 25-018. Applicant: Utah State University, 4415 Old Main Hill, Logan, UT 84322. Instrument: SLM-200 Spatial Light Modulator. Manufacturer: Santec USA Corporation, Japan. Intended Use: The instrument is intended to generate holography and vortex optical beams to provide hands-on training on holographic optics, diffraction options, and Fourier optics.

Dated: August 11, 2025.
Tyler O'Daniel,
Acting Director, Subsidies and Economic Analysts, Enforcement and Compliance.

[FR Doc. 2025-15477 Filed 8-13-25; 8:45 am]

BILLING CODE 3510-DS-P